DEPARTMENT OF LABOR

Employment and Training Administration

[TA-W-63,128]

Sun Chemical Corporation, North American Inks Division, Hopkinsville, KY; Notice of Termination of Investigation

Pursuant to Section 221 of the Trade Act of 1974, as amended, an investigation was initiated on April 4, 2008, in response to a worker petition filed by a company official on behalf of workers at Sun Chemical Corporation, North American Inks Division, Hopkinsville, Kentucky.

The petitioner has requested that the petition be withdrawn. Consequently, the investigation has been terminated.

Signed at Washington, DC, this 13th day of May 2008.
Elliott S. Kushner,
Certifying Officer, Division of Trade Adjustment Assistance.

[FR Doc. E8-11375 Filed 5-21-08; 8:45 am]

BILLING CODE 4510-FN-P